DEPARTMENT OF DEFENSE

Department of the Navy

32 CFR Part 762

RIN 0703-AA61

Midway Islands Code

AGENCY: Department of the Navy, DOD.

ACTION: Final rule.

SUMMARY: This amendment removes and reserves part 762 regulations on the Midway Islands Code. Pursuant to Executive Order 13022, jurisdiction and responsibility for the Midway Islands group transferred to the Department of Interior (DOI) on October 31, 1996.

DATES: Effective September 1, 2000.

ADDRESSES: Office of the Judge Advocate General (Code 13), 1322 Patterson Ave SE, Suite 3000, Washington Navy Yard, DC 20374-5066.

FOR FURTHER INFORMATION CONTACT: Lieutenant Commander James Roth, JAGC, USN, Head, Regulations and Legislation, FOIA/PA, Branch, Administrative Law Division, Office of the Judge Advocate General (Code 13), 1322 Patterson Ave SE, Suite 3000, Washington Navy Yard, DC 20374-5066. Phone (703) 604-8200.

SUPPLEMENTARY INFORMATION: On October 31, 1996, the President of the United States signed EO 13022 transferring to the DOI responsibility for jurisdiction and control, to include civil administration, of the Midway Islands, Hawaiian group and their territorial waters. Subsequent to this transfer, the Secretary of the Interior issued regulations providing, in part, for the civil administration of Midway Islands. These regulations are found at 50 CFR 38, Midway Atoll National Wildlife Refuge. This rule is being published by the Department of the Navy for guidance and interest of the public in accordance with 5 U.S.C. 552(a)(1). It has been determined that invitation of public comment on this amendment would be impracticable and unnecessary, and it is therefore not required under the public rulemaking provisions of 32 CFR Part 336 or Secretary of the Navy Instruction 5720.45. It has been determined that this final rule is not a “significant regulatory action” as defined in Executive Order 12866.

Executive Order 13132, Federalism

It has been determined that this rule does not have sufficient Federalism implications to warrant the preparation of a Federalism Assessment. The provisions contained in this rule will have little or no direct effect on States or local governments.

Regulatory Flexibility Act

This rule will not have a significant economic impact on a substantial number of small entities for purposes of the Regulatory Flexibility Act (5 U.S.C. Chapter 6).

Paperwork Reduction Act

This rule does not impose collection of information requirements for purposes of the Paperwork Reduction Act (44 U.S.C. Chapter 35, 5 CFR Part 1320).

List of Subjects in 32 CFR Part 762

Courts, Crime, Law, Government property management, Law enforcement, Penalties.

PART 762—[REMOVED AND RESERVED]

Under the authority of E.O. 13022, and as discussed in the preamble, remove and reserve part 762, consisting of §§ 762.1 through 762.130.

Dated: August 23, 2000.
C.G. Carlson,
Major, U.S. Marine Corps, Alternate Federal Register Liaison Officer.

[FR Doc. 00-22443 Filed 8-31-00; 8:45 am]

BILLING CODE 3810-FF-U